DEPARTMENT OF THE INTERIOR

Bureau of Land Management

[NV-040-07-5101-ER-F164; N-82076; 8-08807; TAS: 14X5017]

Notice of Availability of the Ely Energy Center Draft Environmental Impact Statement, White Pine County, NV

AGENCY: Bureau of Land Management, Interior.

ACTION: Notice of availability.

SUMMARY: In accordance with the National Environmental Policy Act of 1969 (NEPA) 42 U.S.C. 4321 et seq., the Bureau of Land Management (BLM) has prepared a Draft Environmental Impact Statement (Draft EIS) for rights-of-way applications for the Ely Energy Center (EEC), a coal-fired electricity generating power plant and associated facilities north of Ely, Nevada, in White Pine County.

DATES: Written comments on the EEC Draft EIS must be received by the BLM within 90 days following the date the Environmental Protection Agency publishes the Notice of Availability in the Federal Register. Public meetings will be held in Las Vegas, Ely, Elko and Reno, Nevada. The date, time, and location of the meetings will be made available at least 15 days before each meeting through public notices, media news releases, and/or mailings.

ADDRESSES: Written comments should be addressed to: EEC Project Manager, BLM Ely District Office, HC 33 Box 33500, Ely, NV 89301-9408, or sent by e-mail to EEC_DEIS@blm.gov.

Copies of the EEC DEIS are available in the Ely District Office and may also be reviewed or downloaded at: http://www.blm.gov/nv/st/en/fo/ely_field_office. In addition, the Draft EIS and associated documents will be available for review at the following locations: University of Nevada-Reno, Getchell Library, Government Publication Dept., Reno, Nevada; Washoe County Library, 301 South Center Street, Reno, Nevada; White Pine County Library, 950 Campton Street, Ely, Nevada; Clark County Library, 1401 E. Flamingo Rd., Las Vegas, Nevada.

A limited number of copies of the document will be available at the following BLM offices: Ely District Office, 702 North Industrial Way, Ely, Nevada; Elko District Office, 3900 Idaho Street, Elko, Nevada; Southern Nevada District Office, 4701 North Torrey Pines, Las Vegas, Nevada; Nevada State Office, 1340 Financial Boulevard, Reno, Nevada; Bureau of Land Management, 18th and C Street, NW., Washington, DC.

FOR FURTHER INFORMATION CONTACT: Joe Incardine, 801-524-3833.

SUPPLEMENTARY INFORMATION: The proposed Ely Energy Center is a 1,500 megawatt (MW) coal-fired power plant that would be located north of McGill, Nevada, at one of two alternative sites. The primary purposes of the EEC and related transmission interconnections is to provide company-generated, base-load electricity for Sierra Pacific Power Company and Nevada Power customers and to connect their electric systems in northern and southern Nevada, allowing the power generated by the EEC to be transported throughout the state. Sierra Pacific Power Company applied for rights-of-way (ROWs) in accordance with Title V of the Federal Land Policy and Management Act of October 21, 1976 (43 U.S.C. 1761) and the regulations under 43 CFR 2800, with the BLM for the following features: A coal-fired power plant site, transmission lines and substations, a well field and water line, rail line, and access roads. The BLM action is to consider issuing ROWs for the construction of the power plant and for the construction and operation of the ancillary facilities. Also, as provided for in Decision LR 21 of the Ely Resource Management Plan, the BLM would dispose of the power plant site to Sierra Pacific Power Company.

The BLM issued the Notice of Intent to Prepare an Environmental Impact Statement for a Proposed Coal-Fired Electric Power Plant; Nevada, in the Federal Register on January 26, 2007, with a 60-day public scoping period. Five public scoping meetings were held in February 2006. Issues identified from scoping comments include air quality impacts, emissions of greenhouse gases and impacts from water drawdown resulting from operation of the plant. Issues identified in scoping comments have been addressed in the Draft EIS.

There are three alternatives analyzed in the Draft EIS: The Proposed Action; Alternative 1, which relocates the plant to a site further to the north; and No Action.

The EEC would consist of two coal-fired 750-MW (nominal) supercritical steam turbine units using hybrid cooling systems with an expected commercial life of 50 years or longer. Water for cooling and other purposes would be obtained from a well field in the Steptoe Valley Hydrographic Basin and brought by pipeline to the plant site. Coal would be transported from the Powder River Basin in Wyoming via rail along the existing Northern Nevada Railroad or a new line running south from the Shafter, Nevada, siding for up to 100 miles (less for the northern site) of the Union Pacific east-west line. Two new 500kV electric power transmission lines, each up to 270 miles in length, would provide a north-south interconnection to supply demand centers for Nevada consumers and tie into the EEC. The specific facilities would include the two new 500-kV power lines, expansion of the existing 500-kV Harry Allen Switching Station, and either one new 500-kV switching station at the EEC and expansion of the 500/345 kV Robinson Summit switching station, or one new 500/345-kV switching station at the EEC site.

Public comments and information submitted including names, street addresses, and e-mail addresses of respondents will be available for public review and disclosure at the above address during regular business hours (7:30 a.m. to 4:30 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: 43 CFR 2800.

John F. Ruhs,
Ely District Manager.

[FR Doc. E8-31220 Filed 12-31-08; 8:45 am]

BILLING CODE 4310-HC-P